DEPARTMENT OF AGRICULTURE

Animal and Plant Health Inspection Service

[Docket No. APHIS-2012-0103]

Privacy Act Systems of Records; Veterinary Services—Records of Accredited Veterinarians

AGENCY: Animal and Plant Health Inspection Service, USDA.

ACTION: Notice of proposed alteration to an existing Privacy Act System of Records; request for comment.

SUMMARY: The Animal and Plant Health Inspection Service proposes to alter an existing system of records in its inventory of record systems subject to the provisions of the Privacy Act of 1974, as amended. The system of records is Veterinary Services—Records of Accredited Veterinarians, USDA-APHIS-2. This notice is necessary to meet the requirements of the Privacy Act to publish in the Federal Register notice of the existence and character of record systems maintained by the agency.

DATES: Effective Date: This system will be adopted without further notice on June 22, 2015 unless modified to respond to comments received from the public and published in a subsequent notice.

Comment Date: Comments must be received in writing on or before June 11, 2015.

ADDRESSES: You may submit comments by either of the following methods:

• Federal eRulemaking Portal: Go to http://www.regulations.gov/#!docketDetail;D=APHIS-2012-0103.

• Postal Mail/Commercial Delivery: Send your comment to Docket No. APHIS-2012-0103, Regulatory Analysis and Development, PPD, APHIS, Station 3A-03.8, 4700 River Road Unit 118, Riverdale, MD 20737-1238.

Supporting documents and any comments we receive on this docket may be viewed at http://www.regulations.gov/#!docketDetail;D=APHIS-2012-0103 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Todd Behre, Program Coordinator, National Veterinary Accreditation Program, VS, APHIS, 4700 River Road, Unit 200, Riverdale, MD 20737; (301) 851-3403.

SUPPLEMENTARY INFORMATION: The Privacy Act of 1974, as amended (5 U.S.C. 552a), requires agencies to publish in the Federal Register notice of new or revised systems of records. A system of records is a group of any records under the control of any agency, from which information is retrieved by the name of an individual or by some identifying number, symbol, or other identifying particular assigned to an individual.

The Animal and Plant Health Inspection Service (APHIS) of the United States Department of Agriculture (USDA) is proposing to alter a system of records, entitled Veterinary Services—Records of Accredited Veterinarians, which maintains information pertaining to veterinarians who are or have been accredited, or who have applied for accreditation, under the authority of section 10410 of the Animal Health Protection Act (7 U.S.C. 8309).

Accredited veterinarians are veterinarians authorized by APHIS to perform certain services to control and prevent the spread of animal diseases within the United States and internationally. Duties may encompass a wide range of activities relating to companion animals, livestock, poultry, horses, and other animals, including issuing certificates of veterinary inspection and health certificates for animals moving interstate or internationally; participating in animal disease surveillance and testing activities (including surveillance for emerging and foreign animal diseases); diagnosing diseases in animals; developing herd or flock health plans; and performing veterinary tasks during animal disease emergencies. Veterinarians who wish to perform work for APHIS must become nationally accredited by APHIS and then authorized by APHIS to perform accredited duties in one or more specific States or territories.

In order to ensure that a veterinarian's accreditation is in good standing and that he or she has received the appropriate level of training commensurate with his or her duties, APHIS maintains information regarding the veterinarian in the Veterinary Services—Records of Accredited Veterinarians system. APHIS maintains information about accredited veterinarians in the system in accordance with the APHIS Records Management Handbook. Data associated with accredited veterinarians (including those whose accreditation has lapsed or been revoked) will be destroyed when 45 years old. Data will also be destroyed when the accredited veterinarian is deceased. The system also contains information about veterinarians who are applicants for accredited status.

The system of records notice for this system was previously published at 52 FR 6031, February 27, 1987. That notice is now being amended to add new routine uses, to add and remove categories of records maintained in the system, to clarify the individuals covered, to add record source categories, to update the authority for the system, to update the location of the system and policies and procedures for storing, retrieving, accessing, and disposing of records, and updating instructions for request of records and system manager contact information.

The new routine uses include:

• Disclosure to the American Association of Veterinary State Boards to certify accreditation or license status or exchange information regarding disciplinary action(s);

• Disclosure of contact information to the public for the purpose of locating and contacting an accredited veterinarian who has granted APHIS permission to provide business contact information;

• Disclosure to appropriate agencies, entities, and persons when the security or confidentiality of information in the system of records has been or may have been compromised and the disclosure is necessary to assist the agency in responding and preventing, minimizing, or remedying harm;

• Disclosure to contractors and other parties engaged to assist in administering the program;

• Disclosure to contractors, partner agency employees, or private industry to detect fraud, waste, or abuse; and

• Disclosure to the National Archives and Records Administration or General Services Administration for records management.

A complete listing of the routine uses of records maintained in this system is included in the document published with this notice.

We are removing two categories of records: Social Security numbers and score on the accreditation examination. We are adding date of birth, email address, State in which licensed or legally able to practice veterinary medicine, whether business contact information may be provided upon request to members of the public, and categories providing specifics about the veterinarian's accreditation—date of core orientation to accreditation and State where the veterinarian completed the orientation, accreditation category, APHIS program certifications, and APHIS-approved supplemental training completed.

We are also amending the categories of individuals covered by the system to clarify that the system includes information about applicants for accreditation, and veterinarians whose accreditation has lapsed or been revoked, as well as about currently accredited veterinarians.

We are amending record source categories. While most information continues to be provided by the veterinarians themselves, with some additional source material provided by State animal health officials, APHIS may provide information regarding any alleged violations or disciplinary actions, and may add or correct other data based on its own information or information from State licensing or examining boards, the American Association of Veterinary State Boards, or the organization that provides accreditation training for APHIS, currently the Center for Food Security and Public Health at Iowa State University.

We are amending our authority for maintenance of the system to the Animal Health Protection Act, which in 2002 replaced and consolidated a number of other authorizing statutes. In addition, we are updating information about the location of the system of records and policies and practices for storing, retrieving, accessing, safeguarding, retaining, and disposing of records in the system to reflect changes in where and how the files are maintained. We are also providing more specific instructions about how an individual may request information about this system or whether the system contains any records pertaining to him or her, how an individual may request records pertaining to him or her, and how an individual may contest information in the system pertaining to him or her. Finally, we are updating the system manager's title and address.

Report on Altered System

A report on the altered system of records, required by 5 U.S.C. 552a(r), as implemented by Office of Management and Budget (OMB) Circular A-130, was sent to the Chairman, Committee on Homeland Security and Governmental Affairs, United States Senate; the Chairman, Committee on Oversight and Government Reform, House of Representatives; and the Administrator, Office of Information and Regulatory Affairs, OMB.

Done in Washington, DC, this 6th day of May 2015.
Kevin Shea,
Administrator, Animal and Plant Health Inspection Service.

System Name

Veterinary Services—Records of Accredited Veterinarians, USDA-APHIS-2.

Security classification:

None.

System location:

The application resides at USDA's Fort Collins, CO, data center. Spreadsheets containing data from the system may be kept temporarily at APHIS Veterinary Services (VS) area offices, VS regional offices in Ft. Collins, CO, and Raleigh, NC, and at APHIS headquarters in Riverdale, MD, as well as at other locations where employees work.

Categories of individuals covered by the system:

Veterinarians accredited by APHIS to perform certain services to control and prevent the spread of animal diseases within the United States and internationally (including veterinarians whose accreditation has lapsed or been revoked) and veterinarians who have applied for such accreditation.

Categories of records in the system:

The system contains records related to the accreditation status of veterinarians. The records include name; date of birth; business name; home and business mailing addresses, telephone numbers, and email address; type of employment; State in which licensed or legally able to practice veterinary medicine; veterinary license number; veterinary medical college graduated and date of graduation; States in which the veterinarian is authorized to perform accredited duties; species of animals the veterinarian treats; primary medical discipline; date of core orientation to accreditation and State where the veterinarian completed the orientation; the veterinarian's accreditation category; date of accreditation renewal; APHIS program certifications; APHIS-approved supplemental training completed; whether business contact information may be provided to members of the public; and information pertaining to any alleged or adjudicated violations of accreditation standards, including disposition of the case.

Authority for maintenance of the system:

The authority for maintenance of this system is section 10410 of the Animal Health Protection Act (7 U.S.C. 8309).

Purpose(s):

The Veterinary Services—Records of Accredited Veterinarians System database will automate submission of the accreditation application, streamline the approval process, maintain information specific to the veterinarian's accreditation, maintain current contact information, and document alleged or adjudicated violations of accreditation standards by an accredited veterinarian.

Routine uses of records maintained in the system, including categories of users and the purposes of such uses:

In addition to those disclosures generally permitted under 5 U.S.C. 552a(b) of the Privacy Act, records maintained in the system may be disclosed outside USDA as follows:

(1) To the State animal health official in each State, State veterinary examining or licensing boards, and the American Association of Veterinary State Boards to certify accreditation or license status or exchange information regarding disciplinary action(s);

(2) To the public for the purpose of locating and contacting an accredited veterinarian who has granted APHIS permission to provide business contact information;

(3) To the appropriate agency, whether Federal, State, local, or foreign, charged with responsibility of investigating or prosecuting a violation of law or of enforcing, implementing, or complying with a statute, rule, regulation, or order issued pursuant thereto, of any record within this system when information available indicates a violation or potential violation of law, whether civil, criminal, or regulatory in nature, and either arising by general statute or particular program statute, or by rule, regulation, or court order issued pursuant thereto;

(4) To the Department of Justice when: (a) The agency, or any component thereof; or (b) any employee of the agency in his or her official capacity; or (c) any employee of the agency in his or her individual capacity where the Department of Justice has agreed to represent the employee; or (d) the United States is a party to litigation or has an interest in such litigation, and the use of such records by the Department of Justice is deemed by the agency to be relevant and necessary to the litigation; provided, however, that in each case, the agency determines that disclosure of the records to the Department of Justice is a use of the information contained in the records that is compatible with the purpose for which the records were collected;

(5) For use in a proceeding before a court or adjudicative body before which the agency is authorized to appear when: (a) The agency, or any component thereof; or (b) any employee of the agency in his or her official capacity; or (c) any employee of the agency in his or her individual capacity where the agency has agreed to represent the employee; or (d) the United States is a party to litigation or has an interest in such litigation, and the agency determines that use of such records is relevant and necessary to the litigation; provided, however, that in each case, the agency determines that disclosure of the records to the court is a use of the information contained in the records that is compatible with the purpose for which the records were collected;

(6) To appropriate agencies, entities, and persons when: (a) The agency suspects or has confirmed that the security or confidentiality of information in the system of records has been compromised; (b) the agency has determined that as a result of the suspected or confirmed compromise there is a risk of harm to economic or property interests, a risk of identity theft or fraud, or a risk of harm to the security or integrity of this system or other systems or programs (whether maintained by the agency or another agency or entity) that rely upon the compromised information; and (c) the disclosure made to such agencies, entities, and persons is reasonably necessary to assist in connection with the agency's efforts to respond to the suspected or confirmed compromise and prevent, minimize, or remedy such harm;

(7) To contractors and other parties engaged to assist in administering the program. Such contractors and other parties will be bound by the nondisclosure provisions of the Privacy Act;

(8) To USDA contractors, partner agency employees or contractors, or private industry employed to identify patterns, trends, or anomalies indicative of fraud, waste, or abuse. Such contractors and other parties will be bound by the nondisclosure provisions of the Privacy Act;

(9) To a congressional office from the record of an individual in response to an inquiry from the congressional office made at the written request of that individual; and

(10) To the National Archives and Records Administration or to the General Services Administration for records management inspections conducted under 44 U.S.C. 2904 and 2906.

Disclosure to consumer reporting agencies:

None.

Policies and practices for storing, retrieving, accessing, retaining, and disposing of records in the system:

Storage:

Records are stored in the Veterinary Accreditation Program module of the Veterinary Services Process Streamlining (VSPS) system. VSPS is a database maintained on clustered servers in a secure government-owned facility. Spreadsheets containing data from the system may be temporarily maintained as electronic files on desktop or laptop computers or as paper files.

Retrievability:

Records are electronically retrieved primarily by name, national accreditation number, school of graduation, year of graduation, date of accreditation, State of accreditation, State license number, State where attended core orientation, accreditation status, category of animals worked on, type of practice, veterinary specialty, and email address. However, records can be retrieved by any of the categories that have been recorded.

Safeguards:

The system is physically secured in a locked facility with access only by authorized APHIS personnel. Badges are required. Visitors must be accompanied by authorized staff at all times. Data is stored and backed up using protocols established by the Fort Collins, CO, data center. Access to the records in this system is limited to those individuals who have a need to know the information for the performance of their official duties and who have appropriate clearances or permissions. Data available to individual users is role-based, which further limits access. Users must have USDA eAuthentication credentials and sign in using authorized logins and passwords. At the login screen, users must acknowledge a warning banner regarding authorized uses before proceeding. Employees who save spreadsheets containing data from the system are responsible for protecting the data. Files on employees' computers are also protected by encryption software and login and password requirements. Annually, all users are required to undergo information security training and to sign rules of behavior. Failure to comply with rules of behavior can result in corrective actions, including written reprimands, temporary suspension from duty, reassignment, demotion, or termination, suspension of system privileges, and possible criminal prosecution.

Retention and disposal:

In accordance with the APHIS Records Management Handbook, the data associated with accredited veterinarians (including those whose accreditation has lapsed or been revoked) will be destroyed when 45 years old. Data will also be destroyed when the accredited veterinarian is deceased.

System manager(s) and address:

Information Technology Coordinator, Office of the Associate Deputy Administrator, Surveillance, Preparedness, and Response Services, Veterinary Services, APHIS, 4700 River Road, Unit 33, Riverdale, MD 20737.

Notification procedure:

Any individual may request general information regarding this system of records or information as to whether the system contains records pertaining to him/her from the system manager at the address above. All inquiries pertaining to this system should be in writing, must name the system of records as set forth in the system notice, and must contain the individual's name, telephone number, address, and email address.

Record access procedures:

Any individual may obtain information from a record in the system that pertains to him or her. Requests for hard copies of records should be in writing, and the request must contain the requesting individual's name, address, name of the system of records, timeframe for the records in question, any other pertinent information to help identify the file, and a copy of his/her photo identification containing a current address for verification of identification. All inquiries should be addressed to the Freedom of Information and Privacy Act Staff, Legislative and Public Affairs, APHIS, 4700 River Road, Unit 50, Riverdale, MD 20737-1232.

Contesting record procedures:

Any individual may contest information contained within a record in the system that pertains to him/her by submitting a written request to the system manager at the address above. Include the reason for contesting the record and the proposed amendment to the information with supporting documentation to show how the record is inaccurate.

Record source categories:

Most information is submitted by the individual veterinarian. APHIS may also obtain information from State animal health officials, State licensing and examining boards, the American Association of Veterinary State Boards, the organization that provides accreditation training for APHIS, and other APHIS records.

Exemptions claimed for the system:

The portions of this system that consist of investigatory material compiled for law enforcement purposes have been exempted pursuant to 5 U.S.C. 552a(k)(2) from the provisions of 5 U.S.C. 552a(c)(3), (d), (e)(1), (e)(4)(G), (H), and (I), and (f). See 7 CFR 1.123. Individual access to these records would impair investigations and alert subjects of investigations that their activities are being scrutinized, and thus allow them time to take measures to prevent detection of illegal action to escape prosecution. Any individual who believes, however, that he has been denied any right, privilege or benefit for which he would otherwise be eligible as a result of the maintenance of such material may request access to the material. Such requests should be addressed to the Freedom of Information and Privacy Act Staff, Legislative and Public Affairs, APHIS, 4700 River Road, Unit 50, Riverdale, MD 20737-1232.

[FR Doc. 2015-11420 Filed 5-11-15; 8:45 am]

BILLING CODE 3410-34-P